Title 3—

The President

Proclamation 7488 of October 22, 2001

National Character Counts Week, 2001

By the President of the United States of America

A Proclamation

Our Nation was built on a foundation of sound moral principles. The heroes of American history responded to threats to their freedom by choosing to fight for these timeless principles, assuming duties that superseded their self-interest. The character of America's founders was exemplified in their willingness to risk death in resisting tyranny and securing liberty and independence. From the frozen soil of Valley Forge to the beaches of Normandy and the deserts of the Persian Gulf region, American soldiers have answered the call of patriotic duty at great personal cost.

Our Nation's character continues to define how we respond to those who threaten America's core principles of liberty, justice, and equality. We saw that character when, in the face of the terrible terrorist attacks of September 11, American firefighters, police officers, and airline passengers sacrificed their lives to save others. We saw it when people across our land donated blood for the victims. And we see it as the children of America donate dollars to help suffering Afghan children. These acts reveal that enduring patriotism and faith are part of the fabric of America.

How our military is responding to these despicable attacks is also indicative of our national character. We are waging a war against terrorists who have hijacked their own peaceful religion in an attempt to justify their evil deeds. As we strike military targets, however, we also are dropping food, medicine, and supplies to relieve the suffering among the victims of the Taliban regime.

The manner in which we face these and other challenges in this war will continue to influence our country for generations to come. In fulfilling our mission with both compassion and courage, we show our children what putting American values into action means. Similarly, parents should teach their children by word and deed to understand and live out the moral values that we hold, such as honesty, accepting responsibility for our actions, and loving our neighbors as ourselves.

Places of worship, faith-based organizations, and other community groups also play an important role in helping to shape young hearts and minds. Government should cultivate a climate that supports families and organizations that seek to instill sound moral principles in their children. My Administration's Faith-Based and Community Initiative proposes a program that will ensure that faith-based and community caregivers are welcomed as partners in these efforts. In addition, my budget triples the funds available for character education in public schools. I have also proposed to extend Federal after-school funding to programs run by faith-based and community-based organizations.

During this week, we should reflect on the national character we inherited from our forefathers and on the obligation we now have to stand for morality and virtue in the face of evil and terror. Since September 11, our Nation has shown that we are prepared to respond to the evildoers who have attacked the principles for which we stand. Our national character shall guide us as we wage this war, and in that we know that evil will not triumph.

NOW, THEREFORE, I, GEORGE W. BUSH, President of the United States of America, by virtue of the authority vested in me by the Constitution and laws of the United States, do hereby proclaim October 21 through October 27, 2001, as National Character Counts Week. I call upon the people of the United States to commemorate this week with appropriate ceremonies, activities, and programs.

IN WITNESS WHEREOF, I have hereunto set my hand this twenty-second day of October, in the year of our Lord two thousand one, and of the Independence of the United States of America the two hundred and twenty-sixth.

B

[FR Doc. 01-27443

Filed 10-29-01; 11:37 am]

Billing code 3195-01-P